DEPARTMENT OF ENERGY

Federal Energy Regulatory Commission

[Docket No. RP04-176-000]

Northwest Pipeline Corporation; Notice of Proposed Changes in FERC Gas Tariff

February 26, 2004.

Take notice that on February 23, 2004, Northwest Pipeline Corporation (Northwest) tendered for filing as part of its FERC Gas Tariff, Third Revised Volume No. 1, the tariff sheets listed in Appendix B of its filing, to be effective July 1, 2004.

Northwest states that the purpose of this filing is to redesign its Forms of Service Agreement for transportation services under Rate Schedules TF-1, TF-2 and TI-1 and to implement related conforming changes to such rate schedules and the applicable general terms and conditions in order to facilitate: (i) More accurate and complete compliance with the Commission's transactional reporting requirements and non-conforming contract filing requirements; and (ii) more efficient contract administration.

Northwest states that a copy of this filing has been served upon Northwest's customers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-436 Filed 3-3-04; 8:45 am]

BILLING CODE 6717-01-P